DEPARTMENT OF STATE

[Public Notice: 11172]

Privacy Act of 1974; System of Records

AGENCY: Department of State.

ACTION: Notice of a Modified System of Records.

SUMMARY: Notice is hereby given that the Department of State proposes to amend an existing system of records, Educational and Cultural Exchange Program Records, State-08. The information collected and maintained in this system is in keeping with the Department's mission to promote mutual understanding between the people of the United States and the people of other countries by means of educational and cultural exchange. The information may be used to aid in the identification, selection, and placement of individuals for educational and cultural exchange grants/cooperative agreements and programs, in the administration of such awards and programs, and in maintaining contact with current and former educational and cultural exchange participants.

DATES: In accordance with 5 U.S.C. 552a(e)(4) and (11), this system of records notice is effective upon publication, with the exception of the routine uses [(a)-(p)] that are subject to a 30-day period during which interested persons may submit comments to the Department. Please submit any comments by August 31, 2020.

ADDRESSES: Questions can be submitted by mail, email, or by calling John C. Sullivan, the Senior Agency Official for Privacy, on (202) 647-6435. If mail, please write to: U.S. Department of State; Office of Global Information Systems, Privacy Staff; A/GIS/PRV; 2025 E Street NW, SA-09, NW 08-086B; Washington, DC 20006. If email, please address the email to the Senior Agency Official for Privacy, John C. Sullivan, at Privacy@state.gov. Please write “Educational and Cultural Exchange Program Records, State-08” on the envelope or the subject line of your email.

FOR FURTHER INFORMATION CONTACT: John C. Sullivan, Senior Agency Official for Privacy; U.S. Department of State; Office of Global Information Services, A/GIS; HST, 2201 C Street NW, HST-1417; Washington, DC 20520 or by calling (202) 647-6435.

SUPPLEMENTARY INFORMATION: This notice is being modified to reflect new OMB guidance. The modified system of records notice includes revisions and additions to the following sections: System Location, Categories of Individuals, Categories of Records, Routine Uses, and Safeguards.

System Name and Number:

Educational and Cultural Affairs Exchange Program Records, State-08.

Security Classification:

Unclassified.

System Location:

Department of State, State Annex 05, 2200 C Street NW, Washington, DC 20522, overseas at U.S. embassies, U.S. consulates general, U.S. consulates, U.S. missions. Files will also be stored within a government certified cloud, implemented by the Department of State and provided by a cloud-based provider.

System Manager(s):

U.S. Department of State; Director, Office of Alumni Affairs, Bureau of Educational and Cultural Affairs; U.S. Department of State, SA-5, 2200 C Street NW, Washington, DC 20522-0500.

Authority for Maintenance of the System:

5 U.S.C. 301 (Management of the Department of State); 22 U.S.C. 2651a (Organization of the Department of State); 22 U.S.C. 3921 (Management of service).

Purpose(s) of the System:

The information maintained in this system is in keeping with the Department's mission to promote mutual understanding between the people of the United States and the people of other countries by means of educational and cultural exchange. Records in this system are used to aid in the identification, selection, and placement of individuals for educational and cultural exchange grants and programs, for the administration of such grants/cooperative agreements and programs, for statistical and financial reporting, and for maintaining contact with current and former educational and cultural exchange participants.

Categories of Individuals Covered by the System:

Applicants for participation in educational and cultural exchange programs; U.S. citizen applicants sponsored by the Bureau of Educational and Cultural Affairs (including unsuccessful applicants) to participate in outbound exchange programs; applicants to serve as host families for international exchange participants (including unsuccessful applicants); officials, owners, chief executives, and legal counsel of designated sponsors, including unsuccessful designation applicants; officials, owners, chief executives, legal counsel, and family members of host entities, to include host families, host organizations, and host employers. The Privacy Act defines an individual at 5 U.S.C. 552a(a)(2) as a United States citizen or lawful permanent resident.

Categories of Records in the System:

Categories of records may include identifying information, such as, but not limited to, name, date of birth, gender, race, ethnicity, disability, U.S. and foreign home address, mailing and email addresses, telephone numbers, numeric identifier (such as employee identification number, Social Security number, or passport number), educational information, employment information, wage compensation information, financial information, academic transcripts, letters of reference, ratings by nongovernmental panel members, insurance vouchers and/or cards, medical information, criminal background checks, designation information, information gathered from other United States Government (USG) records systems such as SEVIS, press releases and media reporting (including print and online platforms).

Record Source Categories:

These records contain information obtained directly from the individual who is the subject of these records, from implementing partner organizations, from other U.S. government agencies, schools, colleges and universities, designated sponsors, and from published material and other reference sources.

Routine Uses of Records Maintained in the System, Including Categories of Users and Purposes of Such Uses:

Educational and Cultural Affairs Exchange Program Records, State-08 may be disclosed:

(a) To the general public, for participant directories and for program promotion;

(b) To media, for program promotion;

(c) To public and private sector partner organizations for the purposes of marketing, recruitment, alumni association affiliation, and as necessary for administration of programs as supervising organizations change and transfer roles;

(d) To the J. William Fulbright Foreign Scholarship Board as necessary for oversight of the Fulbright and Humphrey Programs, and for communicating with current and former Fulbright and Humphrey grantees;

(e) To officials of foreign governments, for participant vetting and selection; and for the procurement of necessary services for exchange program participants placed overseas, such as entry permits, residence registration, and documentation of academic affiliation;

(f) To attorneys or other persons designated by participants to represent them;

(g) To health insurance carriers contracting with the Bureau of Educational and Cultural Affairs to provide a health benefits plan for exchange participants, to identify enrollment in a plan, to verify eligibility for payment of a claim for health benefits, or to carry out the coordination or audit of benefit provisions of such contracts;

(h) To participants' family members or other relatives designated by them to assist in case of emergency or matters related to the students' health, safety and welfare;

(i) To the President of the United States, the Executive Office of the President, members of Congress, including legislative and appropriations committees charged with consideration of legislation and appropriations for the Bureau of Educational and Cultural Affairs, or representatives duly authorized by such, and U.S. state and local officials;

(j) With officials of federal, state, municipal, foreign or international law enforcement or other relevant agency or organization as needed for security, law enforcement or counterterrorism purposes, such as: Investigative material, threat alerts and analyses, protective intelligence and counterintelligence information;

(k) With the news media and the public when a matter involving the Department of State has become public knowledge; the Under Secretary for Public Diplomacy and Public Affairs determines that in response to the matter in the public domain, disclosure is necessary to provide an accurate factual record on the matter; and the Under Secretary for Public Diplomacy and Public Affairs determines that there is a legitimate public interest in the information disclosed;

(l) To the Department of Justice when conducting litigation or in proceedings before any court;

(m) To designated sponsors for the purpose of designation, enrollment, and the monitoring of category J nonimmigrants, as well as audit, oversight, and compliance enforcement.

(n) To a contractor of the Department having need for the information in the performance of the contract, but not operating a system of records within the meaning of 5 U.S.C. 552a(m);

(o) To appropriate agencies, entities, and persons when (1) the Department of State suspects or has confirmed that there has been a breach of the system of records; (2) the Department of State has determined that as a result of the suspected or confirmed breach there is a risk of harm to individuals, the Department of State (including its information systems, programs, and operations), the Federal Government, or national security; and (3) the disclosure made to such agencies, entities, and persons is reasonably necessary to assist in connection with the Department of State efforts to respond to the suspected or confirmed breach or to prevent, minimize, or remedy such harm;

(p) To another Federal agency or Federal entity, when the Department of State determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

The Department of State periodically publishes in the Federal Register its standard routine uses which apply to many of its Privacy Act systems of records. These notices appear in the form of a Prefatory Statement (published in Volume 73, Number 136, Public Notice 6290, on July 15, 2008). All these standard routine uses apply to Educational and Cultural Affairs Exchange Program Records, State-08.

Policies and Practices for Storage of Records:

Records are stored both in hard copy and on electronic media. A description of standard Department of State policies concerning storage of electronic records is found here https://fam.state.gov/FAM/05FAM/05FAM0440.html. All hard copies of records containing personal information are maintained in secured file cabinets in restricted areas, access to which is limited to authorized personnel only.

Policies and Practices For Retrieval of Records:

Records covered by this SORN are retrievable by individual name and numeric identifier, as well as by each category of records in the system.

Policies and Practices for Retention and Disposal of Records:

Records are retired and destroyed in accordance with published Department of State Records Disposition Schedules as approved by the National Archives and Records Administration (NARA) and outlined here https://foia.state.gov/Learn/RecordsDisposition.aspx. The retention period for these records spans from two years to 25 years depending on the specific purpose for the collection. More specific information may be obtained by writing to the following address: U.S. Department of State; Director, Office of Information Programs and Services; A/GIS/IPS; 2201 C Street NW; Room B-266; Washington, DC 20520.

Administrative, Technical, and Physical Safeguards:

All users are given cyber security awareness training which covers the procedures for handling Sensitive but Unclassified information, including personally identifiable information (PII). Annual refresher training is mandatory. In addition, all Foreign Service and Civil Service employees and those Locally Employed Staff who handle PII are required to take the Foreign Service Institute's distance learning course instructing employees on privacy and security requirements, including the rules of behavior for handling PII and the potential consequences if it is handled improperly.

Access to the Department of State, its annexes and posts abroad is controlled by security guards and admission is limited to those individuals possessing a valid identification card or individuals under proper escort. It is Department policy that all paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

Before being granted access to Educational and Cultural Affairs Exchange Program Records, a user must first be granted access to the Department of State computer system. Remote access to the Department of State network from non-Department owned systems is authorized only through a Department approved access program. Remote access to the network is configured with the authentication requirements contained in the Office of Management and Budget Circular Memorandum A-130. All Department of State employees and contractors with authorized access have undergone a background security investigation.

The safeguards in the following paragraphs apply only to records that are maintained in cloud systems. All cloud systems that provide IT services and process Department of State information must be specifically authorized by the Department of State Authorizing Official and Senior Agency Official for Privacy.

Only information that conforms with Department-specific definitions for FISMA low or moderate categorization are permissible for cloud usage unless specifically authorized by the Cloud Computing Governance Board. Specific security measures and safeguards will depend on the FISMA categorization of the information in a given cloud system. In accordance with Department policy, systems that process more sensitive information will require more stringent controls and review by Department cybersecurity experts prior to approval. Prior to operation, all Cloud systems must comply with applicable security measures that are outlined in FISMA, FedRAMP, OMB regulations, NIST Federal Information Processing Standards (FIPS) and Special Publication (SP), and Department of State policy and standards.

All data stored in cloud environments categorized above a low FISMA impact risk level must be encrypted at rest and in-transit using a federally approved encryption mechanism. The encryption keys shall be generated, maintained, and controlled in a Department data center by the Department key management authority. Deviations from these encryption requirements must be approved in writing by the Authorizing Official.

Record Access Procedures:

Individuals who wish to gain access to or to amend records pertaining to themselves should write to U.S. Department of State; Director, Office of Information Programs and Services; A/GIS/IPS; 2201 C Street NW; Room B-266; Washington, DC 20520. The individual must specify that he or she wishes the Educational and Cultural Affairs Exchange Program Records to be checked. At a minimum, the individual must include: Full name (including maiden name, if appropriate) and any other names used; current mailing address and zip code; date and place of birth; notarized signature or statement under penalty of perjury; a brief description of the circumstances that caused the creation of the record (including the city and/or country and the approximate dates) which gives the individual cause to believe that the Educational and Cultural Affairs Exchange Program Records include records pertaining to him or her. Detailed instructions on Department of State procedures for accessing and amending records can be found at the Department's FOIA website located at https://foia.state.gov/Request/Guide.aspx.

Contesting Record Procedures:

Individuals who wish to contest record procedures should write to U.S. Department of State; Director, Office of Information Programs and Services; A/GIS/IPS; 2201 C Street NW; Room B-266; Washington, DC 20520.

Notification Procedures:

Individuals who have reason to believe that this system of records may contain information pertaining to them may write to U.S. Department of State; Director, Office of Information Programs and Services; A/GIS/IPS; 2201 C Street NW; Room B-266; Washington, DC 20520. The individual must specify that he or she wishes the Educational and Cultural Affairs Exchange Program Records to be checked. At a minimum, the individual must include: Full name (including maiden name, if appropriate) and any other names used; current mailing address and zip code; date and place of birth; notarized signature or statement under penalty of perjury; a brief description of the circumstances that caused the creation of the record (including the city and/or country and the approximate dates) which gives the individual cause to believe that the Educational and Cultural Affairs Exchange Program Records include records pertaining to him or her.

Exemptions Promulgated for the System:

None.

History:

Previously published at 72 FR 45083.

John C. Sullivan,
Senior Agency Official for Privacy, Deputy Assistant Secretary, Office of Global Information Services, Bureau of Administration, Department of State.

[FR Doc. 2020-16567 Filed 7-29-20; 8:45 am]

BILLING CODE 4710-24-P